DEPARTMENT OF ENERGY

Federal Energy Regulatory Commission

Combined Notice of Filings #1

Take notice that the Commission received the following electric rate filings:

Docket Numbers: ER10-2639-002; ER11-2200-002; ER12-1716-001.

Applicants: Noble Americas Gas & Power Corp., Noble Americas Energy Solutions LLC, Your Energy Holdings, LLC.

Description: Notice of Change in Status of Noble Americas Gas & Power Corp., et al.

Filed Date: 7/9/12.

Accession Number: 20120709-5158.

Comments Due: 5 p.m. ET 7/30/12.

Docket Numbers: ER10-2794-005; ER10-2849-004; ER11-2028-005; ER12-1825-002; ER11-3642-004.

Applicants: EDF Trading North America, LLC, EDF Industrial Power Services (IL), LLC, EDF Industrial Power Services (NY), LLC, Tanner Street Generation, LLC, EDF Industrial Power Services (CA), LLC.

Description: Notice of Non-Material Change in Status of EDF Energy Trading North America, LLC et al.

Filed Date: 7/9/12.

Accession Number: 20120709-5166.

Comments Due: 5 p.m. ET 7/30/12.

Docket Numbers: ER10-2985-004; ER10-3049-005; ER10-3051-005.

Applicants: Champion Energy Marketing LLC, Champion Energy Services, LLC, Champion Energy, LLC.

Description: Notice of Non-Material Change in Status of Champion Energy Marketing LLC, et al.

Filed Date: 7/9/12.

Accession Number: 20120709-5159.

Comments Due: 5 p.m. ET 7/30/12.

Docket Numbers: ER12-684-001.

Applicants: ITC Midwest LLC.

Description: Filing of Refund Report to be effective N/A.

Filed Date: 7/9/12.

Accession Number: 20120709-5083.

Comments Due: 5 p.m. ET 7/30/12.

Docket Numbers: ER12-2217-000.

Applicants: Power Dave Fund LLC.

Description: Power Dave Fund Tariff to be effective 7/6/2012.

Filed Date: 7/9/12.

Accession Number: 20120709-5001.

Comments Due: 5 p.m. ET 7/30/12.

Docket Numbers: ER12-2218-000.

Applicants: Midwest Independent Transmission System Operator, Inc.

Description: SA 1993 Union Electric-Ameren to be effective 7/10/2012.

Filed Date: 7/9/12.

Accession Number: 20120709-5094.

Comments Due: 5 p.m. ET 7/30/12.

Docket Numbers: ER12-2219-000.

Applicants: W Power, LLC.

Description: W Power, LLC Initial Market-Based Rate Tariff to be effective 9/9/2012.

Filed Date: 7/9/12.

Accession Number: 20120709-5096.

Comments Due: 5 p.m. ET 7/30/12.

Docket Numbers: ER12-2220-000.

Applicants: Kansas City Power & Light Company.

Description: Kansas City Power & Light Company submits tariff filing per 35.13(a)(2)(iii: MBR Service Agreement 24 to be effective 7/1/2012.

Filed Date: 7/9/12.

Accession Number: 20120709-5102.

Comments Due: 5 p.m. ET 7/30/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2012.
Nathaniel J. Davis, Sr.,
Deputy Secretary.

[FR Doc. 2012-17339 Filed 7-16-12; 8:45 am]

BILLING CODE 6717-01-P